NATIONAL SCIENCE FOUNDATION

Agency Information Collection Activities: Comment Request

AGENCY: National Science Foundation.

ACTION: Submission for OMB Review; comment request.

SUMMARY: The National Science Foundation (NSF) has submitted the following information collection requirement to OMB for review and clearance under the Paperwork Reduction Act of 1995. This is the second notice for public comment; the first was published in the Federal Register and no comments were received. NSF is forwarding the proposed renewal submission to the Office of Management and Budget (OMB) for clearance simultaneously with the publication of this second notice.

DATES: Written comments and recommendations for the proposed information collection should be sent within 30 days of publication of this notice to www.reginfo.gov/public/do/PRAmain. Find this particular information collection by selecting “Currently under 30-day Review—Open for Public Comments” or by using the search function.

FOR FURTHER INFORMATION CONTACT: Suzanne H. Plimpton, Reports Clearance Officer, National Science Foundation, 2415 Eisenhower Avenue, Alexandria, VA 22314, or send email to splimpto@nsf.gov; telephone 703-292-7556. Individuals who use a telecommunications device for the deaf (TDD) may call the Federal Information Relay Service (FIRS) at 1-800-877-8339, which is accessible 24 hours a day, 7 days a week, 365 days a year (including federal holidays). Comments regarding this information collection are best assured of having their full effect if received within 30 days of this notification. Copies of the submission(s) may be obtained by calling 703-292-7556.

NSF may not conduct or sponsor a collection of information unless the collection of information displays a currently valid OMB control number, and the agency informs potential persons who are to respond to the collection of information that such persons are not required to respond to the collection of information unless it displays a currently valid OMB control number.

SUPPLEMENTARY INFORMATION:

Title of Collection: National Science Foundation's Education and Training Application Pilot.

OMB Approval Number: 3145-0248.

Type of Request: Intent to seek approval to extend with revision an information collection for three years.

Description of the Collection: The National Science Foundation Education & Training Application (https://etap.nsf.gov/) is a customizable, common application system designed to connect individuals—such as students and educators—with NSF-funded education and training opportunities. Initially developed for the Research Experiences for Undergraduates (REU) program, the system has since been revised and enhanced to support a diverse array of NSF programs focused on human capital development.

ETAP is designed to gather data on applicants and participants of NSF-funded opportunities; reducing burden on Principal Investigators (PIs) and applicants while enhancing NSF's ability to monitor our education and workforce development programs and conduct future evaluations of their impact. PIs of NSF awards can utilize the ETAP system to recruit prospective participants for various NSF-funded opportunities, including research experiences, fellowships, scholarships, internships, teaching assistantships, dissertation grants, summer boot camps, and more. ETAP's centralized platform allows potential applicants to easily discover and apply for these NSF-funded programs aimed at STEM professional development and growth.

Estimate of Burden: At present, most education and training opportunities funded by NSF use applications that are submitted directly to each Site, if such applications are required as is the case with the REU Sites program. Sites might run competitive and noncompetitive applications to select their program participants. We estimate that individuals applying for noncompetitive Sites will spend 3.7 hours submitting information through the ETAP system; for competitive Sites, this estimate is 6.1 hours. We estimate that individuals writing letters of reference for students will spend 0.5 hours drafting a letter in support of a student's application to a competitive Site.

Respondents: Individuals.

Estimated Number of Respondents: 286,619.

Estimated Total Annual Burden on Respondents: 270,378 hours.

Dated: April 29, 2025.
Suzanne H. Plimpton,
Reports Clearance Officer, National Science Foundation.

[FR Doc. 2025-07669 Filed 5-1-25; 8:45 am]

BILLING CODE 7555-01-P